DEPARTMENT OF STATE

[Public Notice 5456 ]

Shipping Coordinating Committee; Notice of Meeting

The Working Group on Radiocommunications and Search and Rescue (COMSAR) of the Subcommittee on Safety of Life at Sea (SOLAS) will conduct open meetings at 9:30 a.m. on Thursday, October 5, November 9, December 7, 2006 and January 4, February 8, 2007. The meetings will be held in suite 1060 of the Radio Technical Commission for Maritime Services (RTCM), 1800 North Kent Street, Arlington, VA 22209. This meeting is to prepare for the Eleventh Session of the International Maritime Organization (IMO) SOLAS COMSAR Sub-Committee scheduled for the week of February 19-23, 2007 in London, England.

Members of the public may attend these meetings up to the seating capacity of the rooms. Interested persons may seek information, including meeting room numbers, by writing: Mr. Russell S. Levin, U.S. Coast Guard Headquarters, Commandant (CG-622), Jemal Building Room JR10-1216, 1900 Half Street, SW., Washington, DC 20593 or by sending Internet electronic mail to rlevin@comdt.uscg.mil.

Dated: August 9, 2006.
Margaret Hayes,
Executive Secretary, Shipping Coordinating Committee, Department of State.

[FR Doc. E6-13682 Filed 8-17-06; 8:45 am]

BILLING CODE 4710-09-P